DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama: Calhoun (FEMA Docket No.: B-2136). | City of Oxford (20-04-1850P). | The Honorable Alton Craft, Mayor, City of Oxford, 145 Hamric Drive East, Oxford, AL 36203. | Department of Public Works, 42 Public Works Drive, Oxford, AL 36203. | Aug. 28, 2021 | 010023
Arizona: Santa Cruz (FEMA Docket No.: B-2141). | Unincorporated areas of Santa Cruz County (20-09-2050P). | The Honorable Manny Ruiz, Chairman, Santa Cruz County Board of Supervisors, District 1, 2150 North Congress Drive, Suite 119, Nogales, AZ 85621. | Santa Cruz County Complex, 2150 North Congress Drive, Suite 116, Nogales, AZ 85621. | Aug. 25, 2021 | 040090
Colorado:
Arapahoe (FEMA Docket No.: B-2136). | City of Aurora (21-08-0025P). | The Honorable Mike Coffman, Mayor, City of Aurora, 15151 East Alameda Parkway, Aurora, CO 80012. | Engineering Department, 15151 East Alameda Parkway, Aurora, CO 80012. | Aug. 27, 2021 | 080002
Arapahoe (FEMA Docket No.: B-2136). | Unincorporated areas of Arapahoe County (21-08-0025P). | The Honorable Nancy Jackson, Chair, Arapahoe County Board of Commissioners, 5334 South Prince Street, Littleton, CO 80120. | Arapahoe County Public Works and Development Department, 6924 South Lima Street, Centennial, CO 80112. | Aug. 27, 2021 | 080011
Weld (FEMA Docket No.: B-2136). | City of Windsor (21-08-0099P). | The Honorable Paul Rennemeyer, Mayor, Town of Windsor, 301 Walnut Street, Windsor, CO 80550. | City Hall, 301 Walnut Street, Windsor, CO 80550. | Aug. 30, 2021 | 080264
Weld (FEMA Docket No.: B-2136). | Unincorporated areas of Weld County (21-08-0099P). | The Honorable Steve Moreno, Chairman, Weld County Board of Commissioners, P.O. Box 758, Greeley, CO 80631. | Weld County Administration Building, 1150 O Street, Greeley, CO 80631. | Aug. 30, 2021 | 080266
Delaware:
Sussex (FEMA Docket No.: B-2136). | City of Seaford (20-03-1397P). | The Honorable David Genshaw, Mayor, City of Seaford, P.O. Box 1100, Seaford, DE 19973. | City Hall, 414 High Street, Seaford, DE 19973. | Aug. 18, 2021 | 100048
Sussex (FEMA Docket No.: B-2136). | Unincorporated areas of Sussex County (20-03-1397P). | The Honorable Michael H. Vincent, President, Sussex County Council, P.O. Box 589, Georgetown, DE 19947. | Sussex County Administrative Building, 2 The Circle, Georgetown, DE 19947. | Aug. 18, 2021 | 100029
Florida:
Charlotte (FEMA Docket No.: B-2133). | Unincorporated areas of Charlotte County (21-04-1486P). | The Honorable Bill Truex, Chairman, Charlotte County Board of Commissioners, 18500 Murdock Circle, Port Charlotte, FL 33948. | Charlotte County Building Department, 18400 Murdock Circle, Port Charlotte, FL 33948. | Aug. 20, 2021 | 120061
Marion (FEMA Docket No.: B-2136). | City of Ocala (20-04-4466P). | The Honorable Kent Guinn, Mayor, City of Ocala, 110 Southeast Watula Avenue, Ocala, FL 34471. | Building Department, 110 Southeast Watula Avenue, Ocala, FL 34471. | Aug. 20, 2021 | 120330
Sarasota (FEMA Docket No.: B-2141). | Unincorporated areas of Sarasota County (21-04-1626P). | The Honorable Alan Maio, Chairman, Sarasota County Board of Commissioners, 1660 Ringling Boulevard, Sarasota, FL 34236. | Sarasota County Planning and Development Services Department, 1001 Sarasota Center Boulevard, Sarasota, FL 34240. | Aug. 27, 2021 | 125144
Georgia: Columbia (FEMA Docket No.: B-2136). | Unincorporated areas of Columbia County (21-04-0847P). | The Honorable Douglas Duncan, Chairman, Columbia County Board of Commissioners, P.O. Box 498, Evans, GA 30809. | Columbia County Engineering Services Department, 630 Ronald Reagan Drive, Building A, Evans, GA 30809. | Aug. 19, 2021 | 130059
Maryland: Howard (FEMA Docket No.: B-2136). | Unincorporated areas of Howard County (21-03-0437P). | The Honorable Calvin Ball, Howard County Executive, 3430 Court House Drive, Ellicott City, MD 21043. | Howard County Stormwater Management Division, Bureau of Environmental Services, 9801 Broken Land Parkway, Columbia, MD 21046. | Aug. 20, 2021 | 240044
New Mexico:
Bernalillo (FEMA Docket No.: B-2136). | Unincorporated areas of Bernalillo County (20-06-2787P). | The Honorable Charlene E. Pyskoty, Chair, Bernalillo County Board of Commissioners, 1 Civic Plaza Northwest, Albuquerque, NM 87102. | Bernalillo County Public Works Department, 2400 Broadway Boulevard, Albuquerque, NM 87102. | Aug. 27, 2021 | 350001
Taos (FEMA Docket No.: B-2133). | Unincorporated areas of Taos County (20-06-2988P). | Mr. Brent Jaramillo, Taos County Manager, 105 Albright Street, Suite G, Taos, NM 87571. | Taos County Planning Department, 105 Albright Street, Taos, NM 87571. | Aug. 20, 2021 | 350078
North Carolina:
Wake (FEMA Docket, No.: B-2141). | Town of Apex (20-04-1215P). | The Honorable Jacques Gilbert, Mayor, Town of Apex, P.O. Box 250, Apex, NC 27502. | Engineering Department, 73 Hunter Street, Apex, NC 27502. | Aug. 24, 2021 | 370467
Wake (FEMA Docket, No.: B-2141). | Unincorporated, areas of Wake County (20-04-1215P). | The Honorable Matt Calabria, Chairman, Wake, County Board of Commissioners, P.O. Box 550, Raleigh, NC 27602. | Wake County Environmental Services Department, 336 Fayetteville, Street, Raleigh, NC 27601. | Aug. 24, 2021 | 370368
Pennsylvania:
Lackawanna (FEMA Docket No.: B-2136). | Borough of Dickson City (21-03-0435P). | The Honorable Robert W. MacCallum, Mayor, Borough of Dickson City, 901 Enterprise Street, Dickson City, PA 18519. | Borough Hall, 901 Enterprise Street, Dickson City, PA 18519. | Aug. 23, 2021 | 420528
Lackawanna (FEMA Docket No.: B-2136). | Borough of Moscow (21-03-0435P). | The Honorable Arthur Pencek, President, Borough of Moscow Council, 123 Van Brunt Street, Moscow, PA 18444. | Borough Hall, 123 Van Brunt Street, Moscow, PA 18444. | Aug. 23, 2021 | 420534
Lackawanna (FEMA Docket No.: B-2136). | Borough of Olyphant (21-03-0435P). | The Honorable John Sedlak, Jr., Mayor, Borough of Olyphant, 113 Willow Avenue, Olyphant, PA 18447. | Borough Hall, 113 Willow Avenue, Olyphant, PA 18447. | Aug. 23, 2021 | 420536
Lackawanna (FEMA Docket No.: B-2136). | Township of Clifton (21-03-0435P). | The Honorable Theodore Stout, Chairman, Township of Clifton Board of Supervisors, 361 State Road 435, Clifton, PA 18424. | Township Hall, 361 State Road 435, Clifton, PA 18424. | Aug. 23, 2021 | 421751
Montgomery (FEMA Docket No.: B-2136). | Township of Upper Merion (20-03-1496P). | Mr. Anthony Hamaday, Manager, Township of Upper Merion, 175 West Valley Forge Road, King of Prussia, PA 19406. | Township Hall, 175 West Valley Forge Road, King of Prussia, PA 19406. | Aug. 23, 2021 | 420957
South Carolina:
Dorchester (FEMA Docket No.: B-2141). | Unincorporated areas of Dorchester County (21-04-0277P). | Mr. Jason L. Ward, Dorchester County Administrator, 201 Johnston Street, St. George, SC 29477. | Dorchester County Building Services Department, 500 North Main Street Summerville, SC 29483. | Aug. 27, 2021 | 450068
Horry (FEMA Docket No.: B-2133). | City of North Myrtle Beach (21-04-0539P). | Mr. Michael Mahaney, Manager, City of North Myrtle Beach, 1018 2nd Avenue South, North Myrtle Beach, SC 29582. | Planning and Development Department, 1018 2nd Avenue South, North Myrtle Beach, SC 29582. | Aug. 18, 2021 | 450110
Texas:
Bexar (FEMA Docket No.: B-2141). | City of Converse (20-06-1620P). | The Honorable Al Suarez, Mayor, City of Converse, 403 South Seguin Road, Converse, TX 78109. | City Hall, 403 South Seguin Road, Converse, TX 78109. | Aug. 23, 2021 | 480038
Bexar (FEMA Docket No.: B-2141). | City of San Antonio (20-06-3462P). | The Honorable Ron Nirenberg, Mayor, City of San Antonio, P.O. Box 839966, San Antonio, TX 78283. | Transportation and Capital Improvements Department, Stormwater Division, 114 West Commerce Street, San Antonio, TX 78205. | Aug. 23, 2021 | 480045
Bexar (FEMA Docket No.: B-2141). | Unincorporated areas of Bexar County (20-06-1399P). | The Honorable Nelson W. Wolff, Bexar County Judge, 101 West Nueva Street, 10th Floor, San Antonio, TX 78205. | Bexar County Public Works Department, 1948 Probandt Street, San Antonio, TX 78214. | Aug. 30, 2021 | 480035
Collin (FEMA Docket No.: B-2141). | City of Celina (20-06-3148P). | The Honorable Sean Terry, Mayor, City of Celina, 142 North Ohio Street, Celina, TX 75009. | City Hall, 142 North Ohio Street, Celina, TX 75009. | Aug. 24, 2021 | 480133
Collin (FEMA Docket No.: B-2136). | City of Murphy (20-06-3201P). | The Honorable Scott Bradley, Mayor, City of Murphy, 206 North Murphy Road, Murphy, TX 75094. | City Hall, 206 North Murphy Road, Murphy, TX 75094. | Aug. 23, 2021 | 480137
Coryell (FEMA Docket No.: B-2141). | City of Copperas Cove (20-06-3238P). | Mr. Ryan Haverlah, Manager, City of Copperas Cove, 914 South Main Street, Suite D, Copperas Cove, TX 76522. | Development Services Department, 914 South Main Street, Suite G, Copperas Cove, TX 76522. | Aug. 23, 2021 | 480155
Coryell (FEMA Docket No.: B-2141). | Unincorporated areas of Coryell County (20-06-3238P). | The Honorable Roger A. Miller, Coryell County Judge, 800 East Main Street, Suite A, Gatesville, TX 76528. | Coryell County Environmental/On-Site Sewage Facilities Office, 210 South 7th Street, Gatesville, TX 76528. | Aug. 23, 2021 | 480768
Guadalupe (FEMA Docket No.: B-2136). | City of Seguin (20-06-3659P). | The Honorable Donna Dodgen, Mayor, City of Seguin, 205 North River Street, Seguin, TX 78155. | City Hall, 205 North River Street, Seguin, TX 78155. | Aug. 19, 2021 | 485508
Guadalupe (FEMA Docket No.: B-2136). | Unincorporated areas of Guadalupe County (20-06-3659P). | The Honorable Kyle Kutscher, Guadalupe County Judge, 211 West Court Street, Seguin, TX 78155. | Guadalupe County Engineering Department, 2605 North Guadalupe Street, Seguin, TX 78155. | Aug. 19, 2021 | 480266
Harris (FEMA Docket No.: B-2136). | Unincorporated areas of Harris County (20-06-3120P). | The Honorable Lina Hidalgo, Harris County Judge, 1001 Preston Street, Suite 911, Houston, TX 77002. | Harris County Permit Office, 1005 Northwest Freeway, Suite 120, Houston, TX 77092. | Aug. 23, 2021 | 480287
Tarrant (FEMA Docket No.: B-2141). | City of Fort Worth (21-06-0038P). | The Honorable Betsy Price, Mayor, City of Fort Worth, 200 Texas Street, Fort Worth, TX 76102. | Transportation and Public Works Department, Engineering Vault, 200 Texas Street, Fort Worth, TX 76102. | Aug. 30, 2021 | 480596
Vermont: Bennington (FEMA Docket No.: B-2133). | Town of Bennington (20-01-1034P). | Mr. Stuart Hurd, Manager, Town of Bennington, P.O. Box 469, Bennington, VT 05201. | Town Hall, 205 South Street, Bennington, VT 05201. | Aug. 19, 2021 | 500013

[FR Doc. 2021-20299 Filed 9-20-21; 8:45 am]

BILLING CODE 9110-12-P